NATIONAL AERONAUTICS AND SPACE ADMINISTRATION

[Notice: 19-001]

Notice of Information Collection

AGENCY: National Aeronautics and Space Administration (NASA)

ACTION: Notice of Information Collection.

SUMMARY: The National Aeronautics and Space Administration, as part of its continuing effort to reduce paperwork and respondent burden, invites the general public and other Federal agencies to take this opportunity to comment on proposed and/or continuing information collections.

DATES: All comments should be submitted within 30 calendar days from the date of this publication.

ADDRESSES: All comments should be addressed to Laurette Brown, National Aeronautics and Space Administration, Mail Code IT-C2, Kennedy Space Center, FL 32899.

FOR FURTHER INFORMATION CONTACT: Requests for additional information or copies of the information collection instrument(s) and instructions should be directed to Laurette L. Brown, KSC Paperwork Reduction Act Clearance Coordinator, John F. Kennedy Space Center, Mail Code IT-C2, Kennedy Space Center, FL 32899 or email Laurette.L.Brown@NASA.gov.

SUPPLEMENTARY INFORMATION:

I. Abstract

The NASA Kennedy Space Center (KSC) manages and facilitates the center-specific Job Shadowing Program (JSP). The program targets high school and undergraduate students and offers an opportunity to experience the practical application of STEM, business, and other disciplines aligned to NASA's long-term workforce needs, in a NASA-unique workplace setting. Program participants receive insight into NASA and KSC's history, current activities, and other student opportunities through briefings, tours, and career panels. Each participant is then matched with a subject matter expert to gain direct exposure to the implementation of their respective fields of interest and related career paths.

II. Methods of Collection

The information will be collected via an electronic process.

III. Data

Title: Job Shadowing Program.

OMB Number: 2700-0135.

Type of review: Renewal of a currently approved collection.

Affected Public: High school and college students, and faculty.

Average Expected Annual Number of activities: 4.

Average Number of Respondents per Activity: 20.

Annual Responses: 80.

Frequency of Responses: Quarterly.

Average Minutes Per Response: 30.

Burden Hours: 26.

IV. Request for Comments

Comments are invited on:

(1) Whether the proposed collection of information is necessary for the proper performance of the functions of NASA, including whether the information collected has practical utility;

(2) the accuracy of NASA's estimate of the burden (including hours and cost) of the proposed collection of information;

(3) ways to enhance the quality, utility, and clarity of the information to be collected; and

(4) ways to minimize the burden of the collection of information on respondents, including automated collection techniques or the use of other forms of information technology.

Comments submitted in response to this notice will be summarized and included in the request for OMB approval of this information collection. They will also become a matter of public record.

Laurette Brown,
KSC PRA Clearance Coordinator.

[FR Doc. 2019-01221 Filed 2-5-19; 8:45 am]

BILLING CODE 7510-13-P